DEPARTMENT OF COMMERCE

Membership of the Departmental Performance Review Board

AGENCY: Department of Commerce.

ACTION: Notice of membership of the Departmental Performance Review Board.

SUMMARY: The Department of Commerce (DOC), announces the appointment of those individuals who have been selected to serve as members of the Departmental Performance Review Board. The Performance Review Board is responsible for (1) reviewing performance appraisals and ratings of Senior Executive Service (SES) members and (2) making recommendations to the appointing authority on other performance management issues, such as pay adjustments, bonuses and Presidential Rank Awards. The appointment of these members to the Performance Review Board will be for a period of twenty-four (24) months.

DATES: The period of appointment for those individuals selected for the Departmental Performance Review Board begins on November 1, 2019.

FOR FURTHER INFORMATION CONTACT: Joan Nagielski, U.S. Department of Commerce, Office of Human Resources Management, Department of Commerce Human Capital Client Services, Office of Employment and Compensation, 14th and Constitution Avenue NW, Room 50013, Washington, DC 20230, at (202) 482-6342.

SUPPLEMENTARY INFORMATION: In accordance with 5 U.S.C. 4314(c)(4), the Department of Commerce (DOC), announces the appointment of those individuals who have been selected to serve as members of the Departmental Performance Review Board. The Performance Review Board is responsible for (1) reviewing performance appraisals and ratings of Senior Executive Service (SES) members and (2) making recommendations to the appointing authority on other performance management issues, such as pay adjustments, bonuses and Presidential Rank Awards. The appointment of these members to the Performance Review Board will be for a period of twenty-four (24) months. The name, position title, and type of appointment of each member of the Performance Review Board are set forth below:

1. Department of Commerce, Office of the Secretary (OS)

Renee Macklin, Director of Information Technology for Enterprise Services, Career SES

2. Department of Commerce, Office of the General Counsel, Office of the Secretary (OGC/OS)

John Guenther, Chief, Employment and Labor Law Division, Career SES

3. Department of Commerce, Economic Development Agency (EDA)

Gregory Brown, Chief Financial Officer and Chief Administrative Officer, Career SES

4. Department of Commerce, U.S. Bureau of the Census

Lisa Blumerman, Chief, Office of Survey and Census Analytics, Career SES

Dated: October 29, 2019.
Joan Nagielski,
Human Resources Specialist, Office of Employment and Compensation, Department of Commerce Human Capital Client Services, Office of Human Resources Management, Office of the Secretary, Department of Commerce.

[FR Doc. 2019-23887 Filed 10-31-19; 8:45 am]

BILLING CODE 3510-03-P